DEPARTMENT OF HEALTH AND HUMAN SERVICES

National Institutes of Health

Eunice Kennedy Shriver National Institute of Child Health and Human Development; Notice of Meeting

Pursuant to 42 U.S.C. 285g, notice is hereby given of the National Advisory Child Health and Human Development Council Stillbirth Working Group.

The meeting will be open to the public as a virtual meeting. Individuals who need special assistance, such as sign language interpretation or other reasonable accommodations, should notify the Contact Person listed below in advance of the meeting. The open session will be videocast and can be accessed from the NIH Videocasting website (http://videocast.nih.gov/.)

Name of Committee: National Advisory Child Health and Human Development Council Stillbirth Working Group—Public Listening Session.

Dates and Times: January 5, 2023, 3:00 p.m.-5:00 p.m. EST.

Agenda: The NICHD Stillbirth Working Group of Council (Working Group) is charged with providing a report to the National Advisory Child Health and Human Development Council focusing on the current barriers to collecting data on stillbirths throughout the United States, communities at higher risk of stillbirth, the psychological impact and treatment for mothers following stillbirth, and known risk factors for stillbirth.

Registration: Those who would like to attend and participate in the public listening session may register at https://bit.ly/3F7ftYz. Please register by 12 noon, January 4, 2023.

• When registering, registrants are to identify whether they will be speaking on behalf of an organization or individually.

• An identified spokesperson should speak on behalf of each organization registered.

• During the meeting, the comment time for each registered speaker will depend upon the number of organizations and individuals registered.

Place: Eunice Kennedy Shriver National Institute of Child Health and Human Development, National Institutes of Health, 6710B Rockledge Drive, Bethesda, MD 20892-7510, (Virtual Meeting).

Contact Person: Dr. Natasha H. Williams, Branch Chief, Office of Legislation and Public Policy, Eunice Kennedy Shriver, National Institute of Child Health and Human Development, NIH, 6710B Rockledge Drive, natasha.williams2@nih.gov, Bethesda, MD 20892-7510, (240) 551-4985.

Any interested person may file written comments with the committee by forwarding the statement to the Contact Person listed on this notice. The statement should include the name, address, telephone number and when applicable, the business or professional affiliation of the interested person.

Information is also available on the Institute's/Center's home page: https://www.nichd.nih.gov/about/advisory, where an agenda and any additional information for the meeting will be posted when available.

(Catalogue of Federal Domestic Assistance Program Nos. 93.864, Population Research; 93.865, Research for Mothers and Children; 93.929, Center for Medical Rehabilitation Research; 93.209, Contraception and Infertility Loan Repayment Program, National Institutes of Health, HHS)

Dated: December 15, 2022.
David W. Freeman,
Program Analyst, Office of Federal Advisory Committee Policy.

[FR Doc. 2022-27681 Filed 12-20-22; 8:45 am]

BILLING CODE 4140-01-P